DEPARTMENT OF ENERGY

Federal Energy Regulatory Commission

Combined Notice of Filings #1

Take notice that the Commission received the following exempt wholesale generator filings:

Docket Numbers: EG26-142-000.

Applicants: Atlas Solar IV, LLC.

Description: Atlas Solar IV, LLC submits Notice of Self-Certification of Exempt Wholesale Generator Status.

Filed Date: 1/29/26.

Accession Number: 20260129-5397.

Comment Date: 5 p.m. ET 2/19/26.

Take notice that the Commission received the following electric rate filings:

Docket Numbers: ER10-1827-014; ER18-2264-015; ER19-2462-013.

Applicants: Macquarie Energy LLC, Macquarie Energy Trading LLC, Cleco Power LLC.

Description: Notice of Non-Material Change in Status of Cleco Power LLC, et al.

Filed Date: 1/27/26.

Accession Number: 20260127-5308.

Comment Date: 5 p.m. ET 2/17/26.

Docket Numbers: ER11-2692-000.

Applicants: ASC Energy Services, Inc.

Description: Notice of Cancellation of Market Based Rate Tariff of ASC Energy Services, Inc.

Filed Date: 1/28/26.

Accession Number: 20260128-5331.

Comment Date: 5 p.m. ET 2/18/26.

Docket Numbers: ER12-2510-014; ER15-2014-011; ER22-1566-006; ER12-2512-014; ER19-481-007; ER18-2252-006; ER15-2022-010; ER17-1847-001; ER15-2026-010; ER23-2941-001; ER15-2013-017; ER23-2943-001.

Applicants: Talen Keystone LLC, Talen Energy Marketing, LLC, Talen Conemaugh LLC, Susquehanna Nuclear, LLC, Moxie Freedom LLC, Montour, LLC, MC Project Company LLC, LMBE Project Company LLC, H.A. Wagner LLC, Guernsey Power Station LLC, Brunner Island, LLC, Brandon Shores LLC.

Description: Notice of Change in Status of Brandon Shores LLC, et al.

Filed Date: 1/28/26.

Accession Number: 20260128-5327.

Comment Date: 5 p.m. ET 2/18/26.

Docket Numbers: ER13-738-014; ER11-3097-018; ER10-1186-017; ER12-421-008; ER11-2731-008; ER23-1279-003; ER10-3169-016.

Applicants: Michigan Power Limited Partnership, DTE Energy Services, Inc., Heritage Stoney Corners Wind Farm I, LLC, Heritage Garden Wind Farm I, LLC, DTE Energy Supply, LLC, DTE Energy Trading, Inc., DTE Electric Company.

Description: Supplement to 10/30/2025, Notice of Change in Status of DTE Electric Company, et al.

Filed Date: 1/29/26.

Accession Number: 20260129-5194.

Comment Date: 5 p.m. ET 2/19/26.

Docket Numbers: ER19-1575-015; ER10-2488-032; ER13-1586-027; ER14-2871-026; ER15-463-025; ER15-621-025; ER15-622-025; ER16-72-021; ER16-182-021; ER16-902-018; ER17-47-018; ER17-48-019; ER18-47-018; ER18-2240-014; ER18-2241-014 ER19-1660-014; ER19-1662-014; ER20-71-014; ER20-72-014; ER20-75-014; ER20-76-016; ER20-77-014; ER20-79-014; ER21-1368-010; ER21-2782-011; ER22-149-012; ER22-2419-008; ER22-2420-008; ER23-562-008; ER23-1048-008; ER23-2001-008; ER24-916-004; ER24-917-005; ER24-2257-005; ER24-2258-005; ER25-1966-001; ER17-47-019; ER22-1439-012; ER22-1440-012; ER22-1441-012; ER22-1442-010; ER21-1369-011; ER21-1371-011; ER21-1373-012; ER21-1376-012.

Applicants: Sanborn Solar 1A, LLC, Edwards Solar 1A, LLC, Edwards Sanborn Storage II, LLC, Edwards Sanborn Storage I, LLC, EdSan 1B Group 3, LLC, EdSan 1B Group 2, LLC, EdSan 1B Group 1 Sanborn, LLC, EdSan 1B Group 1 Edwards, LLC, Desert Breeze Solar, LLC, Lockhart CL ESS II, LLC, Lockhart CL ESS I, LLC, Placerita ESS, LLC, Beaumont ESS, LLC, Sagebrush ESS II, LLC, Lockhart ESS, LLC, TGP Energy Management II, LLC, Lockhart Solar PV II, LLC, Lockhart Solar PV, LLC, Sagebrush Line, LLC, Sagebrush ESS, LLC, Valley Center ESS, LLC, Voyager Wind IV Expansion, LLC, Painted Hills Wind Holdings, LLC, Oasis Plains Wind, LLC, Oasis Alta, LLC, Coachella Wind Holdings, LLC, Coachella Hills Wind, LLC, Mojave 16/17/18 LLC, Mojave 3/4/5 LLC, Garnet Wind, LLC, Yavi Energy, LLC, Voyager Wind II, LLC, Terra-Gen Mojave Windfarms, LLC, DifWind Farms LTD VI, Voyager Wind I, LLC, Cameron Ridge II, LLC, San Gorgonio Westwinds II—Windustries, LLC, Ridgetop Energy, LLC, Pacific Crest Power, LLC, San Gorgonio Westwinds II, LLC, Cameron Ridge, LLC, TGP Energy Management, LLC, Oasis Power Partners, LLC, Alta Oak Realty, LLC.

Description: Notice of Non-Material Change in Status of Alta Oak Realty, LLC, et al.

Filed Date: 1/27/26.

Accession Number: 20260127-5310.

Comment Date: 5 p.m. ET 2/17/26.

Docket Numbers: ER23-303-002.

Applicants: Danske Commodities US LLC.

Description: Compliance filing: Notice of Change in Status and Revision to Update Category Status to be effective 1/30/2026.

Filed Date: 1/29/26.

Accession Number: 20260129-5287.

Comment Date: 5 p.m. ET 2/19/26.

Docket Numbers: ER24-1382-002.

Applicants: Horus Louisiana 1, LLC.

Description: Notice of Change in Status of Horus Louisiana 1, LLC.

Filed Date: 1/28/26.

Accession Number: 20260128-5325.

Comment Date: 5 p.m. ET 2/18/26.

Docket Numbers: ER25-2883-002.

Applicants: Redfield PV I, LLC.

Description: Notice of Non-Material Change in Status of Redfield PV I, LLC.

Filed Date: 1/28/26.

Accession Number: 20260128-5323.

Comment Date: 5 p.m. ET 2/18/26.

Docket Numbers: ER25-3039-001.

Applicants: AL Solar G, LLC.

Description: Compliance filing: AL Solar G Notice of Change in Status and Revised MBR Tairff to be effective 3/30/2026.

Filed Date: 1/28/26.

Accession Number: 20260128-5298.

Comment Date: 5 p.m. ET 2/18/26.

Docket Numbers: ER26-40-001.

Applicants: IN Solar 1, LLC.

Description: Compliance filing: IN Solar 1 Change in Status Revised MBR Tariff to be effective 3/30/2026.

Filed Date: 1/29/26.

Accession Number: 20260129-5000.

Comment Date: 5 p.m. ET 2/19/26.

Docket Numbers: ER26-102-001.

Applicants: Upper Missouri G. & T. Electric Cooperative, Inc., Southwest Power Pool, Inc.

Description: Tariff Amendment: Upper Missouri G. & T. Electric Cooperative, Inc. submits tariff filing per 35.17(b): Deficiency Response—Upper Missouri G&T Cooperative, Inc. Formula Rate to be effective 1/1/2026.

Filed Date: 1/29/26.

Accession Number: 20260129-5329.

Comment Date: 5 p.m. ET 2/19/26.

Docket Numbers: ER26-541-001.

Applicants: PVS 2, LLC.

Description: Tariff Amendment: Deficiency Response to be effective 1/1/2026.

Filed Date: 1/28/26.

Accession Number: 20260128-5294.

Comment Date: 5 p.m. ET 2/9/26.

Docket Numbers: ER26-542-001.

Applicants: Green River Energy Center, LLC.

Description: Tariff Amendment: Deficiency Response to be effective 1/1/2026.

Filed Date: 1/28/26.

Accession Number: 20260128-5289.

Comment Date: 5 p.m. ET 2/9/26.

Docket Numbers: ER26-544-000.

Applicants: Cartwright Solar I LLC.

Description: Supplement to 11/18/2025, Cartwright Solar I LLC tariff.

Filed Date: 1/28/26.

Accession Number: 20260128-5330.

Comment Date: 5 p.m. ET 2/18/26.

Docket Numbers: ER26-550-000.

Applicants: Duke Energy Carolinas, LLC.

Description: Refund Report: DEC-Kings Mountain Refund Report to be effective N/A.

Filed Date: 1/29/26.

Accession Number: 20260129-5268.

Comment Date: 5 p.m. ET 2/19/26.

Docket Numbers: ER26-1148-001.

Applicants: Southwest Power Pool, Inc.

Description: Tariff Amendment: Western Area Power Administration—Lower Colorado submits tariff filing per 35.17(b): Amended WAPA-Rocky Mountain Region RTOW Formula Rate Filing to be effective 4/1/2026.

Filed Date: 1/29/26.

Accession Number: 20260129-5375.

Comment Date: 5 p.m. ET 2/19/26.

Docket Numbers: ER26-1154-000.

Applicants: Southwest Power Pool, Inc.

Description: 205(d) Rate Filing: Submission of Balancing Authority Agreements to be effective 4/1/2026.

Filed Date: 1/28/26.

Accession Number: 20260128-5276.

Comment Date: 5 p.m. ET 2/18/26.

Docket Numbers: ER26-1155-000.

Applicants: Tri-State Generation and Transmission Association, Inc.

Description: 205(d) Rate Filing: Amendment to Confirmation Agreement to be effective 4/1/2026.

Filed Date: 1/28/26.

Accession Number: 20260128-5280.

Comment Date: 5 p.m. ET 2/18/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: January 29, 2026.
Carlos D. Clay,
Deputy Secretary.

[FR Doc. 2026-02135 Filed 2-2-26; 8:45 am]

BILLING CODE 6717-01-P